NATIONAL FOUNDATION ON THE ARTS AND THE HUMANITIES

Institute of Museum and Library Services

45th Meeting of the National Museum and Library Services Board

AGENCY: Institute of Museum and Library Services (IMLS), National Foundation of the Arts and the Humanities (NFAH).

ACTION: Notice of meeting.

SUMMARY: Pursuant to the Federal Advisory Committee Act, notice is hereby given that the National Museum and Library Services Board will meet to advise the Director of the Institute of Museum and Library Services (IMLS) with respect to duties, powers, and authority of IMLS relating to museum, library, and information services, as well as coordination of activities for the improvement of these services.

DATES: The meeting will be held on July 19, 2022, from 1:30 p.m. until adjourned.

ADDRESSES: The meeting will be held at 955 L'Enfant Plaza North SW, first-floor Conference Room, Washington, DC 20024.

FOR FURTHER INFORMATION CONTACT: Katherine Maas, Chief of Staff and Alternate Designated Federal Officer, Institute of Museum and Library Services, Suite 4000, 955 L'Enfant Plaza North SW, Washington, DC 20024; (202) 653-4798; kmaas@imls.gov (mailto:kmaas@imls.gov).

SUPPLEMENTARY INFORMATION: The National Museum and Library Services Board is meeting pursuant to the National Museum and Library Service Act, 20 U.S.C. 9105a, and the Federal Advisory Committee Act (FACA), as amended, 5 U.S.C. App.

The 45th Meeting of the National Museum and Library Services Board, which is open to the public, will be held on July 19, 2022.

The agenda for the 45th Meeting of the National Museum and Library Services Board will be as follows:

I. Call to Order

II. Approval of Minutes of the 44th Meeting

III. Director's Welcome and Update

IV. Governmental Engagement and Legislative Update

V. Financial Update

VI. Partner Briefings

VII. Office of Museum Services Update

VIII. Office of Library Services Update

If you wish to attend the public session of the meeting, please inform IMLS as soon as possible, but no later than close of business on July 17, 2022, by contacting Katherine Maas at kmaas@imls.gov (mailto:kmaas@imls.gov). Please provide notice of any special needs or accommodations by July 5th, 2022.

Dated: June 8, 2022.
Brianna Ingram,
Paralegal Specialist.

[FR Doc. 2022-12730 Filed 6-13-22; 8:45 am]

BILLING CODE 7036-01-P